DEPARTMENT OF HOMELAND SECURITY

U.S. Citizenship and Immigration Services

Agency Information Collection Activities: Comment Request

ACTION: 60-day notice of information collection under review; medical certification for disability exceptions, Form N-648.

The Department of Homeland Security, U.S. Citizenship and Immigration Services has submitted the following information collection request for review and clearance in accordance with the Paperwork Reduction Act of 1995. The information collection is published to obtain comments from the public and affected agencies. Comments are encouraged and will be accepted for sixty days until June 3, 2005.

Written comments and suggestions from the public and affected agencies concerning the collection of information should address one or more of the following four points:

(1) Evaluate whether the collection of information is necessary for the proper performance of the functions of the agency, including whether the information will have practical utility;

(2) Evaluate the accuracy of the agencies estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Reinstatement without change of a previously approved collection.

(2) Title of the Form/Collection: Medical Certification for Disability Exceptions.

(3) Agency form number, if any, and the applicable component of the Department of Homeland Security sponsoring the collection: Form N-648. U.S. Citizenship and Immigration Services.

(4) Affected public who will be asked or required to respond, as well as a brief abstract: Primary: Individuals or households. The USCIS uses the Form N-648 medical certification issued by the licensed medical professional to substantiate a claim for an exception to the requirements of section 312(a) of the Immigration and Nationality Act. This certification is needed to support the applicant's claim of an exception to this naturalization requirement.

(5) An estimate of the total number of respondents and the amount of time estimated for an average respondent to respond: 20,000 responses at 2 hours per response.

(6) An estimate of the total public burden (in hours) associated with the collection: 40,000 annual burden hours.

If you have comments, suggestions, or need a copy of the information collection, please contact Richard A. Sloan, Director, Regulatory Management Division, U.S. Citizenship and Immigration Services, 111 Massachusetts Avenue, NW., Washington, DC 20529, (202) 272-8377.

Dated: March 28, 2005.
Stephen R. Tarragon,
Acting Director, Regulatory Management Division, U.S. Citizenship and Immigration Services.

[FR Doc. 05-6425 Filed 4-1-05; 8:45 am]

BILLING CODE 4410-10-M